DEPARTMENT OF ENERGY

Federal Energy Regulatory Commission

[Docket No. ES04-4-000]

Golden Spread Electric Cooperative, Inc.; Notice of Application

October 30, 2003.

Take notice that on October 23, 2003, the Golden Spread Electric Cooperative, Inc. (Golden Spread) submitted an application pursuant to section 204 of the Federal Power Act seeking authorizations to assume long-term loans of $14 million and issue $6 million in long-term debt for the purpose of financing the acquisition of facilities from South Plains Electric Cooperative, Inc., one of its member cooperatives. Both the long-term notes assumed and debt issued will be with the National Rural Cooperative Financing Corporation.

Golden Spread also requests a waiver from the Commission's competitive bidding and negotiated placement requirements at 18 CFR 34.2.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's web site under the “e-Filing” link. The Commission strongly encourages electronic filings.

Comment Date: November 20, 2003.

Magalie R. Salas,
Secretary.

[FR Doc. E3-00168 Filed 11-04-03; 8:45 am]

BILLING CODE 6717-01-P